DEPARTMENT OF HEALTH AND HUMAN SERVICES

National Committee on Vital and Health Statistics; Meeting

Pursuant to the Federal Advisory Committee Act, the Department of Health and Human Services announces the following advisory committee meeting.

Name: National Committee on Vital and Health Statistics (NCVHS), Subcommittee on Standard and Security.

Time and Date: 9 a.m. to 5 p.m., December 10, 2002. 9 a.m. to 12:30 p.m., December 11, 2002.

Place: Hubert H. Humphrey Building, Room 705A, 200 Independence Avenue, SW., Washington, DC.

Status: Open.

Purpose: In the morning session on December 10, the Subcommittee on Standards and Security will discuss the Administrative Simplification Compliance Act (ASCA) database statistics, identify HIPAA implementation best practices, and assess opportunities for improving the standards maintenance process. In the afternoon the Subcommittee will discuss the scope of work for the cost/benefit analysis regarding possible migration to ICD-10-CM/ICD-10-PCS and will discuss and prepare for the January Subcommittee hearings on complementary and alternative medicine issues. On December 11 the subcommittee will discuss the scope and the criteria for recommendations on the selection of Patient Record Medical Information (PMRI) terminologies under HIPAA.

Contact Person for More Information: Substantive program information as well as summaries of meetings and a roster of Committee members may be obtained from Karen Trudel, Senior Technical Advisor, Security and Standards Group, Centers for Medicare and Medicaid Services, MS: C5-24-04, 7500 Security Boulevard, Baltimore, MD 21244-1850, telephone: 410-786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS website: http://www.ncvhs.hhs.gov/ where an agenda for the meeting will be posted when available.

Dated: December 4, 2002.
James Scanlon,
Acting Director, Office of Science and Data Policy, Office of the Assistant Secretary for Planning and Evaluation.

[FR Doc. 02-31556 Filed 12-13-02; 8:45 am]

BILLING CODE 4151-05-M